DEPARTMENT OF TRANSPORTATION

Federal Highway Administration

Environmental Impact Statement: Greene County, PA

AGENCY: Federal Highway Administration (FHWA), DOT.

ACTION: Cancellation of the Notice of Intent.

SUMMARY: This notice rescinds the previous Notice of Intent (issued November 28, 1994) to prepare an Environmental Impact Statement for improvements of a portion of U.S. Route 19 (U.W. 19) in Franklin Township, Greene County, Pennsylvania.

FOR FURTHER INFORMATION CONTACT: David W. Cough, P.E., Director of Operations, Federal Highway Administration, Pennsylvania Divsion Office, 228 Walnut Street, Room 508, Harrisburg, PA 17101-1720, Telephone (717) 221-3411—OR—R. Alan Bailey, P.E., Assistant District Executive, Pennsylvania Department of Transportation, District 12-0, 825 North Gallatin Avenue Extension, Uniontown, PA 15401, Telephone (724) 439-7259.

SUPPLEMENTARY INFORMATION: Additional public meetings and environmental analyses have indicated that all project alternatives can be down-scoped with little or no significant impact to the environment. An Environmental Assessment will be pursued, based on a revised project scoping.

(Catalog of Federal Domestic Assistance Program Number 20.205, Highway Planning and Construction. The regulations implementing Executive Order 12372 regarding intergovernmental consultation on Federal programs and activities apply to this program.)

Dated: May 3, 2007.
James A. Cheatham,
FHWA Division Administrator, Harrisburg, PA.

[FR Doc. 07-2315 Filed 5-9-07; 8:45 am]

BILLING CODE 4910-22-M